DEPARTMENT OF HOMELAND SECURITY

Federal Emergency Management Agency

[Docket ID FEMA-2011-0022]

Preliminary Damage Assessment for Individual Assistance Operations Manual (9327.2-PR)

AGENCY: Federal Emergency Management Agency, DHS.

ACTION: Notice of availability; request for comments.

SUMMARY: The Federal Emergency Management Agency (FEMA) is accepting comments on the draft Preliminary Damage Assessment for Individual Assistance Operations Manual (9327.2-PR).

DATES: Comments must be received by November 14, 2011.

ADDRESSES: Comments must be identified by Docket ID FEMA-2011-0022 and may be submitted by one of the following methods:

Federal eRulemaking Portal: http://www.regulations.gov. Follow the instructions for submitting comments. Please note that this proposed manual is not a rulemaking and the Federal Rulemaking Portal is being utilized only as a mechanism for receiving comments.

Mail: Legislation, Regulations, & Policy Division, Office of Chief Counsel, Federal Emergency Management Agency, Room 835, 500 C Street, SW., Washington, DC 20472-3100.

FOR FURTHER INFORMATION CONTACT: Michael M. Grimm, Individual Assistance Director, Individual Assistance Division, FEMA, 202-212-1000, for additional information. You can also access a copy of the draft Preliminary Damage Assessment for Individual Assistance Operations Manual (9327.2-PR) on http://www.fema.gov; keyword, PDA Manual.

SUPPLEMENTARY INFORMATION

I. Public Participation

Instructions: All submissions received must include the agency name and Docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of www.regulations.gov.

You may submit your comments and material by the methods specified in the ADDRESSES section above. Please submit your comments and any supporting material by only one means to avoid the receipt and review of duplicate submissions.

Docket: The proposed manual is available in Docket ID FEMA-2011-0022. For access to the docket to read background documents or comments received, go to the Federal eRulemaking Portal at http://www.regulations.gov and search for the Docket ID. Submitted comments may also be inspected at FEMA, Office of Chief Counsel, Room 835, 500 C Street, SW., Washington, DC 20472.

II. Background

The Preliminary Damage Assessment for Individual Assistance Operations Manual (PDA Manual) was developed to create uniform procedures for performing Individual Assistance (IA) Preliminary Damage Assessments (PDAs) nationwide in response to an impacted State's request. The primary purpose for conducting IA PDAs is to identify the impact, type, and extent of disaster damages and to determine the impact on individuals and communities while identifying the resources needed for the community to recover.

The PDA is an important first step in the disaster declaration process. The PDA information will be used by the State to determine if the response and recovery actions will require Federal support. If the Governor determines that the State does not have adequate resources to respond and recover from the disaster, and supplemental Federal assistance is required, the Governor may request a Presidential emergency or major disaster declaration under the Robert T. Stafford Disaster Relief and Emergency Assistance Act, as amended (42 U.S.C. 5170 and 5191). The PDA information, along with the Governor's request is included with the Regional Summary, Analysis, and Recommendations (RSAR) and is forwarded to FEMA for review. FEMA then prepares a recommendation to the President based on the PDA information and RSAR. Establishing a single set of PDA procedures ensures that regardless of the location, type of disaster, or FEMA Regional Office involved, the assessment of damages will be consistent, thorough, and well coordinated.

The draft PDA Manual would supersede FEMA Manual 9327.1 PR, Preliminary Damage Assessment for Individual Assistance Operations Manual, dated April 2005. FEMA convened an IA PDA working group to review and update the 2005 manual. The draft PDA Manual, therefore, was prepared and reviewed by FEMA regional staff, in collaboration with State and local government representatives, including Tribes, with extensive field experience in performing PDAs. It incorporates procedures developed and used by individual FEMA regional offices in the course of conducting PDAs throughout the United States in a variety of disasters over several years. It reflects FEMA's extensive experience working with State and local governments. The draft PDA Manual is intended to set the standard for defining and recording levels of damage; as well as to establish uniformity in the composition of teams and the means by which data is collected.

The proposed manual does not have the force or effect of law.

FEMA seeks comment on the draft PDA Manual, which is available online at http://www.regulations.gov in Docket ID FEMA-2011-0022. Based on the comments received, FEMA may make appropriate revisions to the draft manual. Although FEMA will consider any comments received in the drafting of the final manual, FEMA will not provide a response to comments document. When or if FEMA issues a final manual, FEMA will publish a notice of availability in the Federal Register and make the final manual available at http://www.regulations.gov. The final manual will not have the force or effect of law.

Authority: The draft PDA Manual is consistent with and supports the current plans and procedures of the National Response Framework for implementation of the Robert T. Stafford Disaster Relief and Emergency Assistance Act, as amended, 42 U.S.C. 5121 et seq. and its implementing regulations in Title 44, Chapter I of the Code of Federal Regulations.

Dated: October 6, 2011.
W. Craig Fugate,
Administrator, Federal Emergency Management Agency.

[FR Doc. 2011-26390 Filed 10-12-11; 8:45 am]

BILLING CODE 9111-23-P